DEPARTMENT OF THE INTERIOR

Fish and Wildlife Service

[FWS-R4-ES-2014-N107; 40120-1112-0000-F2]

Incidental Take Permit and Environmental Assessment for Condominium Construction, Perdido Key, Escambia County, Florida

AGENCY: Fish and Wildlife Service, Interior.

ACTION: Notice.

SUMMARY: Under the Endangered Species Act (Act), we, the U.S. Fish and Wildlife Service, announce the receipt and availability of a proposed habitat conservation plan (HCP) and environmental assessment (EA) for take of the Perdido Key beach mouse incidental to construction of a multi-unit condominium in Escambia County, Florida. We invite public comments on these documents.

DATES: We must receive any written comments at our Regional Office (see ADDRESSES) on or before October 3, 2014.

ADDRESSES: Documents are available for public inspection by appointment during normal business hours at the Fish and Wildlife Service's Regional Office, 1875 Century Boulevard, Suite 200, Atlanta, GA 30345; or the Panama City Field Office, Fish and Wildlife Service, 1601 Balboa Avenue, Panama City, FL 32405.

FOR FURTHER INFORMATION CONTACT: Mr. David Dell, Regional HCP Coordinator (see ADDRESSES), telephone: 404-679-7313; or Ms. Kristi Yanchis, Field Office Project Manager, at the Panama City Field Office (see ADDRESSES), telephone: 850-769-0552.

SUPPLEMENTARY INFORMATION: We announce the availability of the proposed HCP, accompanying incidental take permit (ITP) application, and an environmental assessment (EA), which analyze the take of the endangered Perdido Key beach mouse (Peromyscus polionotus trissyllepsis) incidental to construction and occupation of a condominium development. The Applicant, Millennium Group LLC, requests a 25-year ITP under section 10(a)(1)(B) of the Act (16 U.S.C. 1531 et seq.), as amended. The Applicant's HCP describes the mitigation and minimization measures proposed to address the impacts to the species.

We specifically request scientific or technical information, views, and opinions from the public via this notice on our proposed Federal action, including identification of any other aspects of the human environment not already identified in the EA pursuant to National Environmental Policy Act (NEPA) regulations in the Code of Federal Regulations (CFR) at 40 CFR 1506.6. Further, we specifically solicit information regarding the adequacy of the HCP per 50 CFR parts 13 and 17.

The EA assesses the likely environmental impacts associated with the implementation of the activities, including the environmental consequences of the no-action alternative and the proposed action. The proposed action alternative is issuance of the ITP and implementation of the HCP as submitted by the Applicant. The HCP covers land clearing, construction, and occupation of a 15-unit condominium, which would permanently alter 0.428 acre of the 1.21 acres owned by the Applicant. Avoidance, minimization, and mitigation measures include retention of natural habitat on 0.782 acre of the property, enhancement of natural habitat with native vegetation plantings, protection of portions of the natural habitat via a conservation easement, operational covenants to minimize impacts, and endowment of off-site habitat acquisition and management via the existing Perdido Key Conservation Fund.

Public Comments

Before including your address, phone number, email address, or other personal identifying information in your comment, you should be aware that your entire comment—including your personal identifying information—may be made publicly available at any time. While you can ask us in your comment to withhold your personal identifying information from public review, we cannot guarantee that we will be able to do so.

If you wish to comment, you may submit comments by any one of several methods. Please reference TE143687-0 in such comments. You may mail comments to the Fish and Wildlife Service's Regional Office (see ADDRESSES). You may also comment via the Internet to david_dell@fws.gov. Please include your name and return address in your Internet message. If you do not receive a confirmation from us that we have received your Internet message, contact us directly at either telephone number listed under FOR FURTHER INFORMATION CONTACT.

Finally, you may hand-deliver comments to either of our offices listed under ADDRESSES.

Covered Area

Perdido Key, a barrier island 16.9 miles long, constitutes the entire historic range of the Perdido Key beach mouse. The area encompassed by the HCP and ITP application is a 1.21-acre Gulf front lot in Escambia County, within the central portions of Perdido Key.

Next Steps

We will evaluate the ITP application, including the HCP and any comments we receive, to determine whether the application meets the requirements of section 10(a)(1)(B) of the Act. We will also evaluate whether issuance of a section 10(a)(1)(B) ITP complies with section 7 of the Act by conducting an intra-Service section 7 consultation. We will use the results of this consultation, in combination with the above findings, in our final analysis to determine whether or not to issue the ITP. If we determine that the requirements are met, we will issue the ITP for the incidental take of Perdido Key beach mouse.

Authority

We provide this notice under section 10 of the Act (16 U.S.C. 1531 et seq.) and NEPA regulations (40 CFR 1506.6).

Dated: June 24, 2014.
Jeffrey M. Fleming,
Acting Regional Director.

[FR Doc. 2014-18310 Filed 8-1-14; 8:45 am]

BILLING CODE 4310-55-P